DEPARTMENT OF HEALTH AND HUMAN SERVICES

Administration on Aging

Statement of Organization, Functions, and Delegations of Authority

This reorganization of AoA establishes the Office of Community Living Assistance Services and Supports (Office of CLASS) and in doing so, capitalizes on the agency's current administrative structures for purposes of implementing the Community Living Assistance Services and Supports Act (CLASS Act).

FOR FURTHER INFORMATION CONTACT: Dan Berger, Administration on Aging, Washington, DC 20201, telephone 202-357-3419.

This notice amends Part B of the Statement of Organization, Functions, and Delegations of Authority of the Department of Health and Human Services (HHS), Administration on Aging (AoA), as last amended at 75 FR 18219-18228, dated April 9, 2010, as follows:

I. Under Part B, Section B.10 Organization, insert the following: “Office of Community Living Assistance Services and Supports (Office of CLASS) (BC).”

II. Under Part B, Section B.20 Functions, establish a new Chapter BC, “Office of Community Living Assistance Services and Supports (Office of CLASS)” to read as follows:

Chapter BC, Office of Community Living Assistance Services and Supports (Office of CLASS)

BC.00 Mission

BC.10 Organization

BC.20 Functions

BC.00 Mission. The Office of Community Living Assistance Services and Supports (Office of CLASS) is the office with a primary focus on the efficient and effective implementation and management of the provisions of Title VIII of the Affordable Care Act of 2010—the Community Living Assistance Services and Supports Act (CLASS Act).

BC.10 Organization. The head of the Office of CLASS reports to the Assistant Secretary for Aging.

BC.20 Functions. The Office of CLASS will play an important role in helping working adults who meet benefit eligibility requirements protect their independence and remain in the community through a cash benefit to purchase long-term services and supports. The responsibilities of the Office of CLASS include: Establishing the national voluntary insurance program; setting premiums; developing and implementing rules for enrollment and eligibility systems; specifying and designing the benefit; establishing systems for advice and assistance; supporting a protection and advocacy network to serve eligible beneficiaries of the program; paying benefits and handling related responsibilities; convening and supporting two Federal Advisory Committees (the Personal Care Attendants Workforce Advisory Panel and the CLASS Independence Advisory Council); and liaising and coordinating with a number of public and private entities, including the Department of the Treasury, the Social Security Administration, employers, and state Medicaid agencies.

Dated: January 25, 2011.
Kathy Greenlee,
Assistant Secretary for Aging.

[FR Doc. 2011-1903 Filed 1-27-11; 8:45 am]

BILLING CODE 4154-01-P